DEPARTMENT OF TRANSPORTATION

Coast Guard

33 CFR Part 117

[CGD07-00-037]

RIN 2115-AE47

Drawbridge Operation Regulations; Atlantic Intracoastal Waterway, Mile 1021.9 and 1022.6, Palm Beach, FL

AGENCY: Coast Guard, DOT.

ACTION: Temporary final rule.

SUMMARY: Commander, Seventh Coast Guard District is temporarily changing the regulations governing the Flagler Memorial Bridge, mile 1021.9 and the Royal Park Bridge, mile 1022.6 across the Atlantic Intracoastal Waterway at Palm Beach, Florida. This temporary rule allows the bridge owner to keep the Royal Park Bridge in the closed position from 7:25 a.m. to 7:45 a.m. and the Flagler Memorial Bridge in the closed position from 7:25 a.m. to 8:15 a.m., on Sunday, May 21, 2000. This action is necessary to facilitate the National Medical Center and Beckman Research Institute's first annual Palm Beach Walk for Hope Against Breast Cancer 5k Run/Walk.

DATES: These regulations become effective at 7:25 a.m. and terminate at 8:15 a.m. on May 21, 2000.

ADDRESSES: Comments and material received from the public, as well as documents indicated in this preamble as being available in the docket, are part of docket [CGD07-00-037] and are available for inspection or copying at Commander (obr), Seventh Coast Guard District, 909 S.E. 1st Avenue, Room 406, Miami, FL 33131 between 8 a.m. and 4:30 p.m., Monday through Friday, except Federal holidays.

FOR FURTHER INFORMATION CONTACT: Miss Evelyn Smart, Project Officer, Seventh Coast Guard District, at (305) 536-6546.

SUPPLEMENTARY INFORMATION:

Regulatory Information

We did not publish a notice of proposed rulemaking (NPRM) for this regulation. Under 5 U.S.C. 553(b)(B), the Coast Guard finds that good cause exists for not publishing an NPRM. Publishing an NPRM is impracticable because we received notice of this event very recently, not leaving time for both a NPRM and a delayed effective date. Under 5 U.S.C. 553(d)(3), the Coast Guard finds that good cause exists for making this rule effective less than 30 days after publication in the Federal Register.

Background and Purpose

On Sunday, May 21, 2000, the National Medical Center and Beckman Research Institute will be hosting their first annual 5K Run/Walk. Beginning at Trinity Park at 7:30 a.m., the run/walk participants will head south on Flagler Drive then head east on the Royal Park Bridge (estimated time of closure 7:25 a.m. to 7:45 a.m.), then the route will continue east on Royal Palm Way, turn north on Coconut Palm Way, then east on Royal Poinciana then head east on Flagler Bridge (estimated time of closure 7:25 a.m. until 8:15 a.m.) this provides the walkers from 7:32 a.m. until 8:15 a.m. to clear the final bridge.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, l979) and the bridges will only remain closed for a maximum of 50 minutes and there will be less traffic because this is a Sunday morning.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities as the bridges will only remain closed to traffic for a maximum of 50 minutes.

Assistance for Small Entities

Under section 213(a) of the Small Business Regulatory Enforcement Fairness Act of 1996 (Pub. L. 104-121), we offer to assist small entities in understanding the rule so that they could better evaluate its effects on them and participate in the rulemaking process.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a state, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph (32)(e), of Commandant Instruction M16475.lC, this rule is categorically excluded from further environmental documentation. A “Categorical Exclusion Determination” is available in the docket for inspection or copying where indicated under ADDRESSES.

List of Subjects in 33 CFR Part 117 Bridges

Temporary Regulations.

For the reasons discussed in the preamble, the Coast Guard amends 33 CFR part 117 as follows:

PART 117—[AMENDED]

1. The authority citation for part 117 continues to read as follows:

Authority: 33 U.S.C. 499; 49 CFR 1.46; 33 CFR 1.05-1(g); section 117.255 also issued under the authority of Pub. L. 102-587, 106 Stat. 5039.

2. From 7:25 a.m. through 8:15 a.m. on May 21, 2000, in § 117.261, paragraphs (u) and (v) are suspended and new paragraphs (rr) and (ss) are added to read as follows:

§ 117.261 Atlantic Intracoastal Waterway from St. Marys River to Key Largo.

* * * * *

(rr) Flagler Memorial (SR A1A) bridge, mile 1021.9 at Palm Beach. The draw shall open on signal; except that, from 7:25 a.m. to 7:45 a.m. on May 21, 2000, the draw need not open.

(ss) Royal Park (SR 704) bridge, mile 1022.6 at Palm Beach. The draw shall open on signal; except that, from 7:25 a.m. to 8:15 a.m. on May 21, 2000, the draw need not open.

Dated: April 18, 2000.
T.W. Allen
Rear Admiral, U.S. Coast Guard, Commander, Seventh Coast Guard District.

[FR Doc. 00-10943 Filed 5-2-00; 8:45 am]

BILLING CODE 4910-15-U